NATIONAL FOUNDATION ON THE ARTS AND HUMANITIES

National Endowment for the Arts

30-Day Notice for the “2022 Survey of Public Participation in the Arts”

AGENCY: National Endowment for the Arts, National Foundation on the Arts and Humanities.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure the requested data can be provided in the desired format, reporting burden (time and financial resources) is minimized, collection instruments are clearly understood, and the impact of collection requirements on respondents can be properly assessed. Currently, the NEA is soliciting comments concerning the proposed information collection on arts participation in the U.S.: Clearance Request for NEA 2022 Survey of Public Participation in the Arts. Copies of this ICR, with applicable supporting documentation, may be obtained by visiting www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: 2022 Survey of Public Participation in the Arts.

OMB Number: 3135-0136.

Frequency: One Time.

Affected Public: American adults.

Estimated Number of Respondents: 36,000.

Estimated Time per Respondent: 10.0 minutes.

Total Burden Hours: 6,000 hours.

Total Annualized Capital/Startup Costs: 0.

Total Annual Costs (operating/maintaining systems or purchasing services): 0.

Description: This request is for clearance of the 2022 Survey of Public Participation in the Arts (SPPA) to be conducted by the Census Bureau in July 2022 as a supplement to the Bureau of Labor Statistic's Current Population Survey. The SPPA is the field's premiere repeated cross-sectional survey of individual attendance and involvement in arts and cultural activity. The data are circulated to interested researchers, and they are the basis for a range of NEA reports and independent research publications. The SPPA provides primary knowledge on the extent and nature of participation in the arts and leisure in the United States. Earlier SPPA surveys were conducted in 1982, 1985, 1992, 1997, 2002, 2008, 2012, and 2017, all of which were conducted by the Census Bureau except the 1997 study, which was conducted by a private contractor, Westat Inc. Reports on these data will be made publicly available on the NEA's website. The data will be made available to the public through the agency's data archive, the National Archive of Data on Arts and Culture (NADAC). The SPPA will provide primary knowledge on the extent and nature of participation in the arts in the United States. These data will also be used by the NEA as a contextual measure for one or more of its strategic goals.

Dated: September 9, 2021.
Meghan Jugder,
Support Services Specialist, Office of Administrative Services & Contracts, National Endowment for the Arts.

[FR Doc. 2021-19775 Filed 9-13-21; 8:45 am]

BILLING CODE 7537-01-P